DEPARTMENT OF COMMERCE

[Docket No.: 040915267-4267-01]

Privacy Act Altered System of Records

AGENCY: Department of Commerce.

ACTION: Notice of amendment of Privacy Act System of Records, Commerce/Department System 18; Employees Personnel files not covered by notices of other agencies to update the categories of records in the system to include records collected for the Workforce Assessment Database.

SUMMARY: In accordance with the requirements of the Privacy Act of 1974, as amended, 5 U.S.C. 552a(e)(4) and (11), the Department of Commerce (Department) is issuing notice of our intent to amend the system of records entitled Commerce Department System 18; “Employees Personnel Files Not Covered By Notices of Other Agencies.” This amendment adds to this system those records compiled in conjunction with the Workforce Assessment Database under the requirements of section 37(d) of the Office of Federal Procurement Policy Act (Federal Acquisition Reform Act of 1995) amendment, 41 U.S.C. 433(d). We invite public comment on the proposed changes in this publication.

DATES: To be considered, written comments must be submitted on or before October 27, 2004. Unless comments are received, the new system of records will become effective as proposed on the date of publication of a subsequent notice in the Federal Register.

ADDRESSES: Comments may be mailed to Curtina Smith, U.S. Department of Commerce, Room 6422, 1401 Constitution Avenue, NW., Washington, DC 20230, 202-482-4186.

SUPPLEMENTARY INFORMATION: This amendment adds to the subject system those files containing records compiled in accordance with section 37(d) of the Office of Federal Procurement Policy Act (Federal Acquisition Reform Act of 1995) amendment, 41 U.S.C. 433(d).

COMMERCE/DEPARTMENT-18

System Name:

Employees Personnel Files Not Covered by Notices of Other Agencies.

Security Classification:

None.

System Location:

After m. add “n. For any records regarding the Workforce Assessment. Database: The Office of Acquisition Management, U.S. Department of Commerce, Room 6422, Washington, DC 20230.”

Categories of individuals covered by the system:*

Categories of records in the system:

After U.S. Foreign and Commercial Service employee personnel and security information add “employee certifications, warrants, education and contact for Workforce Assessment Tool Database.”

Authority for maintenance of the system:

After E.O. 13164 add “41 U.S.C. 433(d).”

Routine uses of records maintained in the system, including categories of users and the purposes of such uses:*

Disclosure to consumer reporting agencies:*

Policies and practices for storing, retrieving, accessing, retaining, and disposing of records in the system:

Storage:*

Retrievability:*

Safeguards:*

Retention and disposal:*

System manager(s) and address:*

Notification procedure:

Delete “For records at location m, information may be obtained from Departmental Privacy Act Officer, Office of Executive Assistance Management, U.S. Department of Commerce, Washington, DC 20230.” Add “For records at location m and n, information may be obtained from Departmental Privacy Act Officer, Office of Management and Organization, U.S. Department of Commerce, 1401 Constitution Avenue, NW., Washington, DC 20230.”

Record access procedures:*

Contesting record procedures:*

Record source categories:*

Exemptions claimed for the system:

None.

* Indicates that there are no changes to that paragraph of the notice.

Dated: September 22, 2004.
Brenda S. Dolan,
Department of Commerce, Freedom of Information/Privacy Act Officer.

[FR Doc. 04-21619 Filed 9-24-04; 8:45 am]

BILLING CODE 3510-03-P